DEPARTMENT OF COMMERCE

Bureau of Industry and Security

15 CFR Part 744

[Docket No. 241028-0283]

RIN 0694-AJ94

Additions and Revisions of Entities to the Entity List

AGENCY: Bureau of Industry and Security, Department of Commerce.

ACTION: Final rule.

SUMMARY: In this rule, the Bureau of Industry and Security (BIS) amends the Export Administration Regulations (EAR) by adding 40 entities under 42 entries and four addresses under four entries to the Entity List. These entries are listed on the Entity List under the destinations of China, People's Republic of (China) (11), India (5), Malaysia (2), Russia (13), Singapore (1), and Turkey (14). Two entities are added to the Entity List under two destinations, which accounts for the difference in the totals. This final rule also modifies 52 existing entries on the Entity List under the destinations of China, Estonia, Finland, India, Turkey, the United Arab Emirates (UAE), and the United Kingdom. These entities have been determined by the U.S. Government to be acting contrary to the national security or foreign policy interests of the United States. This final rule is being published concurrently with a BIS final rule, “Implementation of Additional Export Controls Against Russia and Belarus Under the Export Administration Regulations (EAR); and Clarifications” (RIN 0694-AJ93), which includes additional changes related to export controls related to Russia and Belarus.

DATES: This rule is effective November 1, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add one entity to the Entity List: Agrim Aviation Private Limited, under the destination of India. This addition is being made because the entity has diverted or attempted to divert U.S.-origin items to Russia without prior authorization from BIS. These shipments were likely diverted to a party in Russia's aerospace sector who is subject to a BIS Temporary Denial Order. In addition, the entity has engaged in dilatory, evasive, or misleading behavior regarding the importation of U.S.-origin items that effectively prevented end-use checks (EUCs) from occurring or made the EUCs inaccurate. This activity is contrary to U.S. national security and foreign policy interests under § 744.11 of the EAR. A license is required for all items subject to the EAR. License applications will be reviewed under a presumption of denial.

The ERC determined to add five entities to the Entity List: Federal State Budgetary Institute A.V. Zhirmunskiy National Scientific Research Center of Marine Biology, Far East Branch, Russian Academy of Sciences; Federal State Budgetary Institution of Science Institute of Bioorganic Chemistry named after Academicians M.M. Shemyakin and Yu.A. Ovchinnikov, Russian Academy of Sciences; Federal State Budgetary Institution of Science Institute of Fundamental Problems of Biology, Russian Academy of Sciences; Federal State Budgetary Institution of Science Institute of Molecular and Cell Biology, Siberian Branch of the Russian Academy of Sciences; and Federal State Unitary Enterprise Scientific Center Signal under the destination of Russia. Specifically, these entities have engaged in research, production, and/or attempted procurement of materials in support of Russia's chemical and biological warfare (CBW) program. These activities are contrary to U.S. national security and foreign policy interests under § 744.11. These entities will receive footnote 3 designations because the ERC has determined that they are Russian or Belarusian `military end users' pursuant to § 744.21. A footnote 3 designation subjects these entities to the Russia/Belarus-Military End User and Procurement Foreign Direct Product (FDP) rule, detailed in § 734.9(g). These entities are added with a license requirement for all items subject to the EAR and a license review policy of denial for all items subject to the EAR apart from food and medicine designated as EAR99, which will be reviewed on a case-by-case basis.

The ERC determined to add four entities to the Entity List: Supra Tech Sdn Bhd under the destination of Malaysia; and Ix Medikal Buro Malzemeleri Ticaret Limited Sirketi, Panorama Invest Dis Ticaret As, and Union Trade Turkey Makina Ithalat Ve Ihracat Limited Sirketi under the destination of Turkey. These entities are added for the transshipment of sensitive U.S.-origin goods to Russia that would contribute to their defense industrial base. The ERC has determined that these entities qualify as Russian Procurement Entities under § 734.9(g) of the EAR and are receiving a footnote 3 designation due to their significant risk of involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial.

The ERC determined to add two entities to the Entity List: FUTREVO and Theorax Dynamics Private Limited under the destination of India. These entities are added for procuring or attempting to procure items in support of Russia's military and/or defense industrial base. Specifically, these two entities have supplied U.S.-origin and/or U.S.-branded components to a sanctioned entity known to procure foreign components for Russian drone production. This activity is contrary to U.S. national security and foreign policy interests under Section § 744.11 of the EAR. The ERC has determined that these entities qualify as Russian Procurement Entities under § 734.9(g) of the EAR and are receiving a footnote 3 designation due to their involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial for all items subject to the EAR.

The ERC determined to add the following two entities to the Entity List: Analog Technology Limited, under the destinations of China and India, and Avrora India Marine Systems Pvt., Ltd., under the destination of India. These entities are added for continuing to procure or attempting to procure items in support of Russia's military and/or defense industrial base. Specifically, these entities have supplied U.S.-origin and U.S.-branded components to Russian entities that have been sanctioned since Russia's further invasion of Ukraine or are otherwise linked to the Russian defense industrial base. This activity is contrary to U.S. national security and foreign policy interests under § 744.11 of the EAR. The ERC has determined that these entities qualify as Russian Procurement Entities under § 734.9(g) of the EAR and are receiving a footnote 3 designation due to their significant risk of involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial.

The ERC determined to add four entities to the Entity List: LLC A-K-S, under the destination of Russia; and Shenzhen True Price Technology Co., Ltd.; Woke Trading H.K. Limited; and Woke Trading Hongkong Limited under the destination of China. These entities are added for engaging in the transshipment of sensitive, controlled, U.S.-origin goods to Russia. This activity is contrary to U.S. national security and foreign policy interests under § 744.11 of the EAR. The ERC has determined that these entities qualify as Russian Procurement Entities under § 734.9(g) of the EAR and are receiving a footnote 3 designation due to a significant risk of their involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial for all items subject to the EAR.

The ERC determined to add 12 entities to the Entity List: Atlas Trade Dis Ticaret Limited, Aviatech Havacilik Sanayi Ve Yedek Parcalari Ltd Sti, B2M Lojistik Ve Dis Ticaret Anonim Sirketi, DML Group Makine Pazarlama Ic Ve Dis Ticaret Ltd Sirketi, Madena Otomotiv Insaat Elektronik Tic Ltd, Mia Antalya Insaat Sanayi Ve Ticaret A.S., RLY Ic Ve Dis Ticaret Limited Sirketi, TDT Havacilik Bakim Ve Ticaret, Ultimate Havacilik Hizmetleri Limited Sirketi, and Yildiz Cip Teknoloji Elektronik Elektrik Bilg. Malz. Tic. San. Ltd. Sti., under the destination of Turkey; and one entity, Reka Grup Danismanlik ve Tic Ltd Sti., under the destinations of Malaysia and Turkey. These companies have diverted or attempted to divert controlled U.S.-origin items to Russia without prior authorization from BIS. In addition, these companies have engaged in dilatory, evasive, or misleading behavior regarding the importation of U.S.-origin items during end-use checks (EUCs). These activities are contrary to U.S. national security and foreign policy interests under § 744.11 of the EAR. The ERC has determined that these entities qualify as Russian Procurement Entities under § 734.9(g) of the EAR and they are receiving a footnote 3 designation due to their significant risk of involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial.

The ERC determined to add four addresses, all under the destination of China, to the Entity List. These addresses are denoted as Address 12, 13, 14, and 15. These addresses are associated with significant transshipment of sensitive goods to Russia and are also associated with a significant number of entities whose activities risk violating the EAR. These risks include associations with parties on the U.S. Department of the Treasury's Specially Designated Nationals (SDN) List and entities on the Entity List. These activities are contrary to U.S. national security and foreign policy interests under § 744.11 of the EAR. Licenses will be required for all entities at these addresses for all items on the Commerce Control List and EAR99 items listed in supplement no. 7 to part 746 of the EAR. License applications will be reviewed with a license review policy of presumption of denial.

The ERC determined to add TechCamel Pte. Ltd., under the destination of Singapore, to the Entity List. This entity is added because it has supplied U.S.-origin aircraft parts to Russia without prior authorization from BIS, as required. This activity is contrary to U.S. national security and foreign policy interests under § 744.11 of the EAR. The ERC has determined that this entity qualifies as a Russian Procurement Entity under § 734.9(g) of the EAR and is receiving a footnote 3 designation due to its significant risk of involvement in the supply or diversion of items subject to the EAR to procurement networks for Russia's defense industry or intelligence services. A footnote 3 designation subjects this entity to the Russia/Belarus-Military End User and Procurement Foreign Direct Product (FDP) rule, detailed in § 734.9(g). This entity is added with a license requirement for all items subject to the EAR. It is added with a license review policy of denial.

The ERC determined to add Beijing Aerospace Hill Test Technology Co., Ltd.; Suzhou Tiangong Mechanics Testing Technology Co., Ltd.; and Suzhou Tiangong Testing Technology Co., Ltd., under the destination of China, to the Entity List. These entities are added for acquiring and attempting to acquire U.S.-origin items related to vibration tables which have explicit military applications and subsequently supplying Chinese entities on the Entity List. Additionally, Beijing Aerospace Hill Test Technology Co., Ltd. has been involved in the shipment of controlled items to Russia since Russia's full-scale invasion of Ukraine in February 2022. This activity is contrary to the national security and foreign policy interests of the United States under § 744.11 of the EAR. These entities are added with a license requirement for all items subject to the EAR and licenses will be reviewed under a presumption of denial.

For the reasons described above, this final rule adds the following 40 entities and four addresses under 46 entries to the Entity List and includes, where appropriate, aliases:

China

• Analog Technology Limited,

• Address 12,

• Address 13,

• Address 14,

• Address 15,

• Beijing Aerospace Hill Test Technology Co., Ltd.,

• Shenzhen True Price Technology Co., Ltd.,

• Suzhou Tiangong Mechanics Testing Technology Co., Ltd.,

• Suzhou Tiangong Testing Technology Co., Ltd.,

• Woke Trading H.K. Limited, and

• Woke Trading Hongkong Limited.

India

• Agrim Aviation Private Limited,

• Analog Technology Limited,

• Avrora India Marine Systems Pvt., Ltd.,

• FUTREVO, and

• Theorax Dynamics Private Limited.

Malaysia

• Supra Tech Sdn Bhd.; and

• Reka Grup Danismanlik ve Tic Ltd Sti.

Russia

• Bespilotnye Sistemy LLC,

• Federal State Budgetary Institute A.V. Zhirmunskiy National Scientific Research Center of Marine Biology, Far East Branch, Russian Academy of Sciences,

• Federal State Budgetary Institution of Science Federal Research Center Pushchino Scientific Center for Biology, Russian Academy of Sciences,

• Federal State Budgetary Institution of Science Institute of Bioorganic Chemistry named after Academicians M.M. Shemyakin and Yu.A. Ovchinnikov, Russian Academy of Sciences,

• Federal State Budgetary Institution of Science Institute of Molecular and Cell Biology, Siberian Branch of the Russian Academy of Sciences,

• Federal State Unitary Enterprise Scientific Center Signal,

• Fincor LLC,

• Finko LLC,

• JSC Zavod Kopir,

• LLC A-K-S,

• OOO IAZ,

• Pavlin Techno LLC, and

• Superkam LLC.

Singapore

• TechCamel Pte. Ltd.

Turkey

• Atlas Trade Dis Ticaret Limited,

• Aviatech Havacilik Sanayi Ve Yedek Parcalari Ltd Sti,

• B2M Lojistik Ve Dis Ticaret Anonim Sirketi,

• DML Group Makine Pazarlama Ic Ve Dis Ticaret Ltd Sirketi,

• Ix Medikal Buro Malzemeleri Ticaret Limited Sirketi,

• Madena Otomotiv Insaat Elektronik Tic Ltd,

• Mia Antalya Insaat Sanayi Ve Ticaret A.S.,

• Panorama Invest Dis Ticaret As,

• Reka Grup Danismanlik ve Tic Ltd Sti,

• RLY Ic Ve Dis Ticaret Limited Sirketi,

• TDT Havacilik Bakim Ve Ticaret,

• Ultimate Havacilik Hizmetleri Limited Sirketi,

• Union Trade Turkey Makina Ithalat Ve Ihracat Limited Sirketi, and

• Yildiz Cip Teknoloji Elektronik Elektrik Bilg., Malz., Tic., San., Ltd., Sti.

Modifications to the Entity List

The ERC determined to modify the following 49 entities under 52 existing entries on the Entity List: Ace Electronics (HK) Co., Limited, Alliance Electro Tech Co., Alpha Trading Investments Limited, Asialink Shanghai Int'l Logistics Co., Ltd., Benico Limited, Check IC Solution Limited, Chengdu Jingxin Technology Co., Ltd., E-Chips Solution Co., Ltd., Farteco Limited, Glite Electronic Technology Co., Global Broker Solutions Limited, Grants Promotion Service Limited, Guangdong Munpower Electronic Commerce Co., Ltd., Huayuanshitong Technology Co., Ltd., IMAXChip, Insight Electronics, Kingford PCB Electronics Co., Ltd., Kobi International Company, Most Technology Limited, New Wally Target International Trade Co., Nuopuxun Electronic Technology Co., Onstar Electronics Co., Ltd., Robotronix Semiconductors Limited, Rui En Koo Technology Co., Ltd, Shaanxi Yingsaeir Electronic Technology Co., Ltd., Shanghai IP3 Information Technology Co., Ltd., Shenzhen One World International Logistics Co., Shvabe Opto-Electronics Co., LTD., Suntop Semiconductor Co., LTD., Tordan Industry Limited, TYT Electronics Co., Ltd., UCreate Electronics Group, Wargos Industry Limited, Win Key Limited, Xin Quan Electronics Hong Kong Co., ZeYuan Technology Limited, Zhejiang Foso Electronics Technology Co., Ltd., Zixis Limited, and Zone Chips Electronics Hong Kong Co., Limited, under the destination of China; Elmec Trade OU under the destination of Estonia; Abhar Technologies and Services Private Limited, Si2 Microsystems Private Limited, and Innovio Ventures under the destination of India; LL Chip Elektrik Elektronic Paz and Scitech Tasimacilik Ticaret Limited under the destination of Turkey; Hulm al Sahra Elect Devices TR under the destination of the UAE; Photon Pro LLP under the destination of the UK; C & I Semiconductor Co., Ltd. under the destinations of China and India; China Shengshi International Trade Ltd., under the destinations of China and the UK; and PT Technology Asia Limited under the destinations of China and Finland. These entities pose a significant risk of involvement in the supply or diversion of items subject to the EAR to procurement networks for Russia's defense industry or intelligence services. Therefore, each of these entities is being modified to have a footnote 3 designation on the Entity List, subjecting them to the Russia/Belarus-Military End User and Procurement Foreign Direct Product (FDP) rule, detailed in § 734.9(g). These entities were previously added to the Entity List in October 2023 with a license requirement for all items subject to the EAR and a license review policy of denial. See 88 FR 70352 (Oct. 11, 2023). This license requirement and licensing policy will continue to apply for these entities, including for transactions involving items subject to the EAR under § 734.9(g) of the EAR.

Savings Clause

For the changes being made in this final rule, shipments of items removed from eligibility for a License Exception or export, reexport, or transfer (in-country) without a license (NLR) as a result of this regulatory action that were en route aboard a carrier to a port of export, reexport, or transfer (in-country), on November 1, 2024, pursuant to actual orders for export, reexport, or transfer (in-country) to or within a foreign destination, may proceed to that destination under the previous eligibility for a License Exception or export, reexport, or transfer (in-country) without a license (NLR) before December 2, 2024. Any such items not actually exported, reexported, or transferred (in-country) before midnight, on December 2, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 23, 2024).

2. Supplement no. 4 to part 744 is amended by:

a. Under CHINA, PEOPLE'S REPUBLIC OF:

i. Revising the entry for “Ace Electronics (HK) Co., Limited”;

ii. Adding entries in alphabetical order for “Address 12”, “Address 13”, “Address 14”, and “Address 15”;

iii. Revising the entries for “Alliance Electro Tech Co., Limited” and “Alpha Trading Investments Limited”;

iv. Adding an entry, in alphabetical order, for “Analog Technology Limited”;

v. Revising the entry for “Asialink Shanghai Int'l Logistics Co., Ltd.”;

vi. Adding an entry, in alphabetical order, for “Beijing Aerospace Hill Test Technology Co., Ltd.”;

vii. Revising the entries for “Benico Limited”, “C & I Semiconductor Co., Ltd.”, “Check IC Solution Limited”, “Chengdu Jingxin Technology Co., Ltd.”, “China Shengshi International Trade Ltd.”, “E-Chips Solution Co., Ltd.”, “Farteco Limited”, “Glite Electronic Technology Co., Limited”, “Global Broker Solutions Limited”, “Grants Promotion Service Limited”, “Guangdong Munpower Electronic Commerce Co., Ltd.”, “Huayuanshitong Technology Co., Ltd.”, “IMAXChip”, “Insight Electronics,” “Kingford PCB Electronics Co., Ltd”, “Kobi International Company”, “Most Technology Limited”, “New Wally Target International Trade Co., Limited”, “Nuopuxun Electronic Technology Co., Limited”, “Onstar Electronics Co., Ltd.”, “PT Technology Asia Limited”, “Robotronix Semiconductors Limited”, “Rui En Koo Technology Co., Ltd”, “Shaanxi Yingsaeir Electronic Technology Co., Ltd.”, “Shanghai IP3 Information Technology Co., Ltd.”, and “Shenzhen One World International Logistics Co., Limited”,

viii. Adding an entry, in alphabetical order, for “Shenzhen True Price Technology Co., Ltd.”;

ix. Revising the entries for “Shvabe Opto-Electronics Co., LTD.” and “Suntop Semiconductor Co., LTD.”;

x. Adding entries, in alphabetical order, for “Suzhou Tiangong Mechanics Testing Technology Co., Ltd.”, and “Suzhou Tiangong Testing Technology Co., Ltd.”;

xi. Revising the entries for “Tordan Industry Limited”, “TYT Electronics Co. Ltd.”, “UCreate Electronics Group”, “Wargos Industry Limited”, and “Win Key Limited”,

xii. Adding entries in alphabetical order for “Woke Trading H.K. Limited” and “Woke Trading Hongkong Limited”;

xiii. Revising the entries for “Xin Quan Electronics Hong Kong Co., Limited”, “ZeYuan Technology Limited”, “Zhejiang Foso Electronics Technology Co., Ltd.”, “Zixis Limited”, and “Zone Chips Electronics Hong Kong Co., Limited”;

b. Under ESTONIA, by revising the entry for “Elmec Trade OU”;

c. Under FINLAND, by revising the entry for “PT Technology Asia Limited”;

d. Under INDIA:

i. Revising the entry for “Abhar Technologies and Services Private Limited”;

ii. Adding entries in alphabetical order for “Agrim Aviation Private Limited”, “Analog Technology Limited”, and “Avrora India Marine Systems Pvt. Ltd.”,

iii. Revising the entry for “C & I Semiconductor Co., Ltd.”;

iv. Adding an entry, in alphabetical order, for “FUTREVO”;

v. Revising the entries for “Innovio Ventures” and “Si2 Microsystems Private Limited”, and

vi. Adding an entry, in alphabetical order, for “Theorax Dynamics Private Limited”;

e. Under MALAYSIA, by adding entries in alphabetical order for “Reka Grup Danismanlik ve Tic Ltd Sti” and “Supra Tech Sdn Bhd”;

f. Under RUSSIA:

i. Adding entries in alphabetical order for “Bespilotnye Sistemy LLC”, “Federal State Budgetary Institute A.V. Zhirmunskiy National Scientific Research Center of Marine Biology, Far East Branch, Russian Academy of Sciences”, “Federal State Budgetary Institution of Science Federal Research Center Pushchino Scientific Center for Biology, Russian Academy of Sciences”, “Federal State Budgetary Institution of Science Institute of Bioorganic Chemistry named after Academicians M.M. Shemyakin and Yu.A. Ovchinnikov, Russian Academy of Sciences”, “Federal State Budgetary Institution of Science Institute of Molecular and Cell Biology, Siberian Branch of the Russian Academy of Sciences”, “Federal State Unitary Enterprise Scientific Center Signal”, “Fincor LLC”, “Finko LLC”, “JSC Zavod Kopir”, “LLC A-K-S”, “OOO IAZ”, “Pavlin Techno LLC”, and “Superkam LLC”;

g. Under SINGAPORE, by adding an entry in alphabetical order for “TechCamel Pte. Ltd.”;

h. Under TURKEY:

i. Adding entries in alphabetical order for “Atlas Trade Dis Ticaret Limited”, “Aviatech Havacilik Sanayi Ve Yedek Parcalari Ltd Sti”, “B2M Lojistik Ve Dis Ticaret Anonim Sirketi”, “DML Group Makine Pazarlama Ic Ve Dis Ticaret Ltd Sirketi”, “Ix Medikal Buro Malzemeleri Ticaret Limited Sirketi”;

ii. Revising the entry for “LL Chip Elektrik Elektronic Paz”;

iii. Adding entries in alphabetical order for “Madena Otomotiv Insaat Elektronik Tic Ltd”, “Mia Antalya Insaat Sanayi Ve Ticaret A.S.”, “Panorama Invest Dis Ticaret As”, “Reka Grup Danismanlik ve Tic Ltd Sti”, and “RLY Ic Ve Dis Ticaret Limited Sirketi”;

iv. Revising the entry for “Scitech Tasimacilik Ticaret Limited”;

v. Adding entries in alphabetical order for “TDT Havacilik Bakim Ve Ticaret”, “Ultimate Havacilik Hizmetleri Limited Sirketi”, “Union Trade Turkey Makina Ithalat Ve Ihracat Limited Sirketi”, and “Yildiz Cip Teknoloji Elektronik Elektrik Bilg., Malz., Tic., San., Ltd., Sti”;

i. Under UNITED ARAB EMIRATES, revising the entry for “Hulm al Sahra Elect Devices TR”; and

j. Under UNITED KINGDOM, revising the entry for “China Shengshi International Trade Ltd.”

The additions and revisions read as follows:

Supplement No. 4 to Part 744—Entity List

* * * * *

Country | Entity | License requirement | License review policy | Federal Register citation
* * * * * * *
CHINA, PEOPLE'S REPUBLIC OF | * * * * * *
| Ace Electronics (HK) Co., Limited, a.k.a., the following two aliases: —ACE (HK) Electronics Technology Co., Ltd; and —Ace Electronic (HK) Co., Ltd. 18F Block B, World Trade Plaza, No. 9 Fuhong Road, Futian District, Shenzhen, Guangdong, China; and E2 Unit, 22/F Kingsway Industrial Building Phase II, 167-175 Wo Yi Hop Road, Kwai Chung, New Territories, Hong Kong; and 9F International Technology Building No. 3007, Shennan Avenue, Futian District, Shenzhen, Guangdong, China; and Unit 04 7/F Bright Way Tower, No. 33 Mong Kok Road, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER] November 1, 2024.
| * * * * * *
| Address 12, Room 1502, EaseyNovember 1, 2024 Commercial Building, 253-261 Hennessy Road, Wan Chai, Hong Kong. | For items on the CCL and EAR99 items listed in supplement no. 7 to part 746 of the EAR | Presumption of denial | 89 FR [INSERT FR PAGE NUMBER], November 1, 2024.
| Address 13, Room 1005, 10/F, Ho King Commercial Center, 2-16 Fayuen St, Mong Kok, Kowloon, Hong Kong. | For items on the CCL and EAR99 items listed in supplement no. 7 to part 746 of the EAR | Presumption of denial | 89 FR [INSERT FR PAGE NUMBER], 11/1/24.
| Address 14, Room B, 5/F Gaylord Commercial Building, 114-118 Lockhart Road, Wan Chai, Hong Kong. | For items on the CCL and EAR99 items listed in supplement no. 7 to part 746 of the EAR | Presumption of denial | 89 FR [INSERT FR PAGE NUMBER], 11/1/24.
| Address 15, Flat 1512, 15/F, Lucky Centre, No. 165-171 Wan Chai Road, Wan Chai, Hong Kong. | For items on the CCL and EAR99 items listed in supplement no. 7 to part 746 of the EAR | Presumption of denial | 89 FR [INSERT FR PAGE NUMBER], 11/1/24.
| * * * * * *
| Alliance Electro Tech Co., Limited, 114-118 Lockhart Road, Gaylord Commercial Building, 5th Floor, Room B, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Alpha Trading Investments Limited, a.k.a., the following two aliases: —Alpha Trading Investments; and —Alpha Trading Investments Ltd. Unit 617, 6/F Solo Workshops 131-132, Connaught Road West, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Analog Technology Limited, Room A4, 8/F, Block A1 Yau Tong Industrial City, 17 Ko Fai Road, Yau Tong, Kowloon, Hong Kong; and Unit 17, 9th Floor, Tower A, Mandarin Plaza, No. 14 Science Museum Road, Kowloon, Hong Kong; and Room 83, 3/F, Yau Lee Centre, 45 Hoi Yuen Rd., Kwun Tong, Hong Kong; and Room 1302, B Block, Jiahe Huaqiang Building, Zhonghang Road, Futian District, Shenzhen, Guangdong, 518031, China; and Room 19H, Hangdu Building, Huafu Road, Futian, Shenzhen, Guangdong, 518039, China. (See alternate address under India). | For all items subject to the EAR (See §§ 734.9(g),³ 746.8(a)(3), and 744.11 of the EAR) | Policy of denial for all items subject to the EAR. See § 746.8(b) | 89 FR [INSERT FR PAGE NUMBER], 11/1/24.
| * * * * * *
| Asialink Shanghai Int'l Logistics Co., Ltd., a.k.a., the following two aliases: —Asialink; and —Asialink; Xi'an Int'l Logistics Co., Ltd. 1128 Tianyueqiao South Road, Building 8, Room 319, Xuhui District, Shanghai, China; and 218 West Tian Mu Road, Kerry Everbright City Tower 1 Offices 2508-2510, Jing'an District, Shanghai, 200070, China; and 3rd Kong Gang West Road, Xi'an Xianyang International Airport Offices 211-212, Kong Gang New Area, XiXian District, Xi'an, Shaanxi,710000, China; and 17 Xinda Road, Building 7, 4th Floor Office 437, Shunyi District, Beijing, 101399, China; and 158 Hangzhong Road, East Tower, Room 1607, Zhabei District, Shanghai, 200070, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Beijing Aerospace Hill Test Technology Co., Ltd., a.k.a., the following five aliases: —ETS Solutions; —Aerospace Hill; —ETS Solutions (China); —ETC Solutions (China); and —Beijing ETS Solutions Ltd. No. 1, Nandahongmen Road, Beijing, China; and No. 66, Tongdun Street, Suzhou, China; and No. 9, Zhongbei 3rd Street, Tianjin, China; and No. 9, Qianzhao Road, Chongqing, China; and Room 2Q, Changning Building, No. 1, Xinghuo Road, Beijing, China. | For all items subject to the EAR. (See § 744.11 of the EAR) | Presumption of denial | 89 FR [INSERT FR PAGE NUMBER], 11/1/24.
| * * * * * *
| Benico Limited, Valiant Industrial Center, 10th Floor, Room U, Sha Tin, Hong Kong; and 11 On Lai Street, Corporation Park, 6th Floor, Room 617, Sha Tin, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| C & I Semiconductor Co., Ltd., a.k.a., the following one alias: —China India Semiconductor Co. Ltd. Ko Fai Road Block A1, 8th Floor, Room A4, Yau Tong Industrial City, Kowloon, Hong Kong. (See alternate address under India). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Check IC Solution Limited, 2-16 Fa Yuen Street, Ho King Commercial Building, 10th Floor, Room 1005, Mong Kok, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Chengdu Jingxin Technology Co. Ltd., a.k.a., the following one alias: —Chengdu Jingxin Teck Inc. 118 Jitai 5th Road, Building 3, 8th Floor, Room 5, Chengdu High-Tech Zone, China Pilot Free Trade Zone, Chengdu, Sichuan, 610000, China; and 5th Street, Jingrong Start-Up Hub, Tianfu, Chengdu, Sichuan, 610000, China; and No. 97 Shiren N. Road, Floor 2, Qingyang District, Chengdu, Sichuan, 610014, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| China Shengshi International Trade Ltd., a.k.a., the following one alias: —Hong Kong Development Group. 21 Jianshe Road, Yufeng Building Room 313B, Xitou Xincun District 3, Longhua District, Shenzhen, Guangdong, China. (See alternate address under United Kingdom). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| E-Chips Solution Co. Ltd., a.k.a., the following one alias: —Yichuangxin International Ltd. Shen Nan Road Block A, JiaHe HuaQiang Building, Room 3008, Futian District, Shenzhen, Guangdong, 518031, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Farteco Limited, a.k.a., the following one alias: —Farteco Ltd. 501-503 Castle Peak Road, Unit B090, International Industrial Building, Kowloon, Hong Kong; and Unit D, 16/F One Capital Place, 18 Luard Rd, Wan Chai, Hong Kong; and Unit B909, 9th Floor, International Industrial Building, 501-503 Castle Peak Rd., Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Glite Electronic Technology Co., Limited, Xiangmihu Road, Building 1, Room 1002, Shenzhen, Guangdong, China; and Fuhong Road, World Trade Plaza, Building A, Room 1106, Funan Community, Futian District, Shenzhen, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| Global Broker Solutions Limited, 11 Shing Yip Street, Wah Shing Center, 9th Floor, Unit 9, Kwun Tong, 518002, Hong Kong; and 54-56 Jervois Street, Lower Ground Floor, Room B, Sheung Wan, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Grants Promotion Service Limited, a.k.a., the following three aliases: —Catalano Limited; —Zhenao Co. Ltd.; and —GPSL. 430-436 Nathan Road, Nathan Commercial Building, 8th Floor, Room A, Yau Ma Tei, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Guangdong Munpower Electronic Commerce Co. Ltd., a.k.a., the following one alias: —Guangzhou Munpower Electronic Technology Co. Ltd. 38 Renzhen Xixing Street, Baiyun District, Guangzhou, Guangdong, China; and 82 Langbao West Road, 6th Floor, Rooms 605-610, Chancheng District, Foshan, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Huayuanshitong Technology Co. Ltd., a.k.a., the following two aliases: —Shenzhen Huayuanshitong Technology Limited; and —HK Huayuanshitong Technology Limited. Middle Shennan Road Block B, Jiahe Huaquiang Building, Room 1309, Futian District, Shenzhen, Guangdong, China; and Zhenhua Road, Gaokede Electronics Market, Room 62826, Futian District, Shenzhen, Guangdong, China; and 1002 Seg Plaza, 32nd Floor, Room 3203, Huaqiao, Shenzhen, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| IMAXChip, No. 59 King Yip Street, King Yip Factory Building, 5th Floor, Unit D5, Kwun Tong, Kowloon, Hong Kong; and Shennan Middle Road, International Culture Building, Room 2508B, Futian District, Shenzhen, Guangdong, China; and Kwun Tong Industrial Center Phase 3, 3rd Floor, Unit L, Kwun Tong, Kowloon, Hong Kong; and Nos. 436-446 Kwun Tong Road, 13th Floor, Unit A15, Kowloon, Hong Kong; and Shennan Road, Phoenix Building 2, Room 18E, Futian District, Shenzhen, Guangdong, 518000, China; and Lianqiu Building, No. 735 Renmin West Road, Wucheng District, Jinhua, Zhejiang, China; and Shenfang Building B3109, Futian District, Shenzhen, Guangdong, 518031, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Insight Electronics, No. 195 Keji Road, Room 12A06, Block A, Century Yi Yuan, Yanta District, Xi'an, Shaanxi, China; and Nos. 351 & 353 King's Road, Bank Tower, 3rd Floor, Flat 3B, North Point, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Kingford PCB Electronics Co., Ltd., a.k.a., the following two aliases: —Shenzhen Jingfu Circuit Board Co., Ltd.; and —Shenzhen Xinjingfu Technology Co., Ltd. Building 6, Longhui Industrial Park, Fuqiao Third Industrial Zone, Fuyong Town, Bao'an District, Shenzhen, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Kobi International Company, No. 17 Sheung Hei Street, Success Industrial Building, 14th Floor, Room A1, San Po Kong, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Most Technology Limited, Nos. 436-446 Kwun Tong Road, Block 4, 14th Floor, Room A15, Kowloon, Hong Kong; and 59 King Yip Street, King Yip Factory Building, 5th Floor, Room D5, Kwun Tong, Hong Kong; and No. 75-77 Garden Street, Garden Commercial Building, 7th Floor, Room 705, Mong Kok, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| New Wally Target International Trade Co., Limited, 91-97 Jervois Street, Tung Lee Commercial Building, 19th Floor, Room B3, Sheung Wan, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Nuopuxun Electronic Technology Co., Limited, a.k.a., the following one alias: —Shenzhen Nuopuxun Electronic Technology Co., Ltd. Huishang Center 3809, Futian District, Shenzhen, Guangdong, China; and No. 4 Longshan 4th Road, Building F, Floor 2, Third Industrial Zone, Songgang Community, Bao'an District, Shenzhen, Guangdong, 518015, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Onstar Electronics Co. Ltd., No. 45 Hoi Yuen Road, Yau Lee Center, 3rd Floor, Unit 83, Kwun Tong, Kowloon, Hong Kong; and Zhonghang Road, Dynamic World Building Room 811, Futian District, Shenzhen, Guangdong, 18031, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| PT Technology Asia Limited, a.k.a., the following one alias: —PT-Technology Asia Limited. 615-617 Tai Nan West Street, Park Fook Industrial Building, Room 623, Kowloon, Hong Kong; and Wah Kit Commercial Building, 11th Floor, Room B, Sheung Wan, Hong Kong. (See alternate address under Finland). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Robotronix Semiconductors Limited, 89 Lockhart Road, Wan Chai Central Building, 4th Floor, Room 401, Wan Chai, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Rui En Koo Technology Co. Ltd, a.k.a., the following two aliases: —Rui En Koo Technology; and —Rui En Ke Technology Co. Ltd. 59 King Yip Street, King Yip Factory Building, 7th Floor, Room B22, Kwun Tong, Kowloon, Hong Kong; and Fenghuang Street, Nantaiyun Chuanggu Center Building 4, Room 1202, Guangming District, Shenzhen, Guangdong, 518132, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Shaanxi Yingsaeir Electronic Technology Co. Ltd., a.k.a., the following two aliases: —Shaanxi Yingsaier Electronic Science & Technology Co. Ltd.; and —Shaanxi Yingsai'er Commerce and Trade Co. Ltd. No. 28 Xinxi Avenue, Zone B of Shaanxi Xi'an Export Processing Zone, 3A Section 6, Xi'an, 710119, China; and No. 10804, Floor 8, Unit 1, Building No. 2, Xibeijiao More Center, Keji 6th Road, Fenghui S. Road, High-Tech Zone, Xi'an, Shaanxi, China; and No. 195 Keji Road, Room 12A06, Block A, Century Yiyuan, Yanta District, Xi'an, Shaanxi, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Shanghai IP3 Information Technology Co. Ltd., No. 68, Zhongchuang Road, Building 16, 2nd Floor, Songjiang District, Shanghai, 200001, China. | All items subject to the EAR. (See §§ 734.9(g),³ 746.8(a)(3), and 744.21(b) of the EAR) | Policy of denial for all items subject to the EAR. See § 746.8(b) | 88 FR 70353, 10/11/23. 89 FR [INSERT FR PAGE NUMBER], 11/1/24.
| * * * * * *
| Shenzhen One World International Logistics Co., Limited, Shennan East Road, Hongchang Square Building, 30th Floor, Room 3005, Luohu District, Shenzhen, Guangdong, 518002, China; and 8 Leung Yip Street, Kar Wah Industrial Building, 7th Floor, Room 18, Yuen Long, Hong Kong; and No. 1 Liyumen Street, Room 201, Building A, Zonghe Office, Qianhai Shenzhen-Hong Kong Cooperation Zone Administration, Shenzhen, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Shenzhen True Price Technology Co., Ltd., 605 East Liuxian Avenue, Dingxin Building, Nanshan District, Shenzhen, China; and No. 6008 Liuxian Avenue, Xinwei Community, Xili Street, Nanshan District, Shenzhen City, China; and No. 6008 Liuxian Avenue, 605 Dingxin Building, Xinwei Community, Xili Street, Nanshan District, Shenzhen, Guangdong, China; and No. 1001 South, Xueyuan Avenue, Room 508-1, Building C2, Nanshan Zhiyuan, Changyuan Community, Taoyuan Street, Nanshan District, Shenzhen, China. | For all items subject to the EAR (See §§ 734.9(g),³ 746.8(a)(3), and 744.11 of the EAR) | Policy of denial. See § 746.8 of the EAR | 89 FR [INSERT FR PAGE NUMBER], 11/1/24.
| * * * * * *
| Shvabe Opto-Electronics Co. LTD., a.k.a., the following three aliases: —UOMZ (Meizhou) Co., Ltd.; —Shvabe Opto-Electronics Shenzhen Co. Ltd.; and —Shvabe Opto-Electronics Meizhou Co. Ltd. 16 A, No. 4044 Pingshan Road, Building 16, Room A, Heping Street, Shenzhen, Guangdong, China; and No. 4044 Pingshan Road, Investment Building, Room 1619, Heping Street, Pingshan District, Shenzhen, Guangdong, 518118, China; and No. 20 Meilong Road, Bati Dasha 3rd Floor, Room 303, Meizhou City, Guangdong, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Suntop Semiconductor Co., LTD., No. 34-36 Au Pui Wan Street, Block B, Veristrong Industrial Centre, 12th Floor, Room 03, Shatin, New Territory, Hong Kong; and No. 116-118 How Ming Street, Manning Industrial Building, 1st Floor, Room B5, Kwun Tong, Kowloon, Hong Kong; and Zhonghang Road, Dynamic World Building, Room 811, Futian District, Shenzhen, Guangdong, 518031, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Suzhou Tiangong Mechanics Testing Technology Co., Ltd., No. 66, Tongdun Street, Suzhou, China; and Building 4, No. 99, Taishan Road, Suzhou, China. | For all items subject to the EAR. (See § 744.11 of the EAR) | Presumption of denial | 89 FR [INSERT FR PAGE NUMBER], 11/1/24.
| Suzhou Tiangong Testing Technology Co., Ltd., a.k.a., the following three aliases: —TG Testing; —Suzhou TG Testing Technology Co., Ltd.; and —CVMSL China. Building 15, No. 70, Yaofeng West Road, Suzhou, China; and Building F, No. 28, Yongchang Road, Suzhou, China; and Room 19C, Lockhart Center, 301-307 Lockhart Road, Wan Chai, Hong Kong; and Caohu Industrial Park, Tangbang Road, Suzhou, China. | For all items subject to the EAR. (See § 744.11 of the EAR) | Presumption of denial | 89 FR [INSERT FR PAGE NUMBER], 11/1/24.
| * * * * * *
| Tordan Industry Limited, a.k.a., the following two aliases: —Tordan Industry; and —Tordan Industry Ltd. Unit 617, 6/F, 131-132 Connaught Road West, Solo Workshops, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| TYT Electronics Co. Ltd., a.k.a., the following one alias: —Quanzhou Nan'an Teyitong Electronics Co., Ltd. Block 39-1, Optoelectronics-Information Industry Building, Nan'an, Quanzhou, Fujian, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| UCreate Electronics Group, a.k.a., the following one alias: —UCreate PCB Co., Ltd. No. 42 Caiyun Road, Yunhai Enterprise Headquarters Base, Building C, Room 315, Jixiang Community, Longgang District, Shenzhen, Guangdong, China; and Room 315, Building C, Yunhai Industrial Park, Longgang District, Shenzhen, Guangdong, China; and Xiangshui River Industrial Zone, Daya Bay, No. 11, East District, Industrial Park, Suichuan County, Ji'an, Jiangxi, China; and No. 116 Shuiku Road, Yanda Science Park, Baoan District, Shenzhen, Guangdong, China; and 45-51 Chatham Road, Chevalier House, Room 803, Tsim Sha Tsui, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Wargos Industry Limited, No. 131-132 Connaught Road West, Solo Workshops, 6th Floor, Room 617, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Win Key Limited, a.k.a., the following two aliases: —Win Key; and —Win Key Ltd. Room 1606, 16/F Workingbond Commercial Centre, 162-164 Prince Edward Road West, Mong Kok, Kowloon, Hong Kong; and Unit 1008, 10/F, Sun Cheong Industrial Building, 2-4 Cheung Yee Street, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Woke Trading H.K. Limited, a.k.a., the following three aliases: —Shenzhen Walker Trade Co., Ltd.; —Woke Trading Shenzhen Co., Ltd; and —Shenzhen Woke Commerce and Trade Co., Ltd. Chuangye 1st Road, Room 1815, Hongfa Center Building, Baoan District, Shenzhen, China; and Chuangye 1st Road, Room 815, Hongfa Center, Baoan Center, Shenzhen, China; and Chuangye 1st Road, Room 181, Hongfa Center Building, Baoan Central District, Baoan District, Shenzhen City, China; and Longjing 1st Road, B509, Huachuangda Qianhai Maker Technology Innovation Base, District 38, Anle Community, Xin'an Street, Baoan District, Shenzhen City, China. | For all items subject to the EAR (See §§ 734.9(g),³ 746.8(a)(3), and 744.11 of the EAR) | Policy of denial. See § 746.8 of the EAR | 89 FR [INSERT FR PAGE NUMBER], 11/1/24.
| Woke Trading Hongkong Limited, a.k.a., the following alias: —Woke Trading Hong Kong Limited No: 66-82, Chai Cwan Kok St., Unit E, 8/F, Golden Bear Industrial Center, Tsuen Wan, New Territories, Hong Kong; and 1 Wang Kwong Rd, Hong Kong; and Rm D, 10/F, Tower A, Billion Ctr, Kowloon Bay, Hong Kong; and 1 Wang Kwong Road, Hogfa Center, Kowloon Bay, Hong Kong. | For all items subject to the EAR (See §§ 734.9(g),³ 746.8(a)(3), and 744.11 of the EAR) | Policy of denial. See § 746.8 of the EAR | 89 FR [INSERT FR PAGE NUMBER], 11/1/24.
| * * * * * *
| Xin Quan Electronics Hong Kong Co., Limited, a.k.a., the following two aliases: —Xin Quan (HK) Electronics Ltd.; and —XQHK. No. 14-24 Au Pui Wan Street Block 1, Kin Ho Industrial Building, 17th Floor, Room 1, Shatin, New Territories, Hong Kong; and 75-77 Fa Yuen Street, Fa Yuen Commercial Building, Room 705, Kowloon, Hong Kong; and 18 Luard Road, One Capital Place, 16th Floor, Room D, Wan Chai, Hong Kong; and 19-21 Shing Yip Street, Shing Yip Building, Room 1302, Kwun Tong, Kowloon, Hong Kong; and Room B, Bank Tower, Nos. 351 & 353 King's Road, North Point, Hong Kong; and No. 3018, ShenNan Middle Road, Century Place-Duhuixun, Room 2601, Futian, Shenzhen, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| ZeYuan Technology Limited, Shennan Middle Road, Futian Building, Room 510, Funan Community, Futian District, Shenzhen, Guangdong, 518000, China; and Room 1007, Funan Community, Futian Street, Futian District, Shenzhen, Guangdong, 518000, China; and Room 3009, Funan Community, Futian Street, Futian District, Shenzhen, Guangdong, 518000, China; and 45-51 Chatham Road South, Chevalier House Room 803, Tsim Sha Tsui, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Zhejiang Foso Electronics Technology Co. Ltd., No. 8 Haining Avenue, Caohejing Technology Park, Block 13, Haining, Jiaxing, Zhejiang, 314400, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Zixis Limited, 501-503 Castle Peak Road, Unit B090, International Industrial Building, Kowloon, Hong Kong; and Unit D, 16/F One Capital Place, 18 Luard Rd, Wan Chai, Hong Kong and Unit A22, Block A, 10/F, Prince Industrial Building, 706 Prince Edward Road East, San Po Kong, Kowloon, Hong Kong. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Zone Chips Electronics Hong Kong Co., Limited, a.k.a., the following two aliases: —BomChips; and —SQXY Technology (Shenzhen) Co. Room 2811/Building Shijihui, Shennan Avenue 3018, Futian District, Shenzhen, China; and Unit 2 D6, 2nd Floor, Mai Wah Industrial Building, Nos. 1/7, Wah Sing Street, Kwai Chung, New Territories, Hong Kong; and 22 Huafu Road, Hangdu Building E, Futian District, Shenzhen, Guangdong, 518000 China; and Metropolitan Heights at Century Place, Room 3417, Shenzhen, Guangdong, 518000, China. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
ESTONIA | * * * * * *
| Elmec Trade OU, Katusepapi tn 6-502, Lasnamäe linnaosa, Tallinn, Harju maakond, 11412, Estonia; and Valukoja tn 8/1, Tallinn, 11415, Estonia. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
* * * * * * *
FINLAND | * * * * * *
| PT Technology Asia Limited, a.k.a., the following one alias: —PT-Technology Asia Limited. Valtakatu 52, Lappeenranta, 53100, Finland. (See alternate address under China). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
INDIA | Abhar Technologies and Services Private Limited, a.k.a., the following one alias: —Abhartech. RMZ Latitude Building, 10th Floor, Bellary Road, Hebbal, Bangalore, Karnataka, 560024, India; and No 6, 80 Feet Road, 4th Block, Koramangala, Bangalore, Karnataka, 560034, India. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| Agrim Aviation Private Limited, World Trade Centre, 516A 5th Floor, Babar Road, New Delhi, Central Delhi, 110001, India; and B-675, Weavers Colony Ashok Vihar, Phase-IV New Delhi, Delhi, 110052, India; and World Trade Centre, 133 LGF, Babar Road, New Delhi, Delhi, 110001, India; and 133, LGF, World Trade Centre, Babar Road, New Delhi, 110052, India. | For all items subject to the EAR. (See § 744.11 of the EAR) | Presumption of denial | 89 FR [INSERT FR PAGE NUMBER AND DATE OF PUBLICATION IN THE Federal Register].
| Analog Technology Limited, No. 53 40 Feet Road 3rd Cross, Ground Floor, Raghava Nagar, Bangalore, Karnataka, 560026, India. (See alternate address under China). | For all items subject to the EAR (See §§ 734.9(g),³ 746.8(a)(3), and 744.11 of the EAR) | Policy of denial for all items subject to the EAR. See § 746.8(b) | 89 FR [INSERT FR PAGE NUMBER], 11/1/24.
| Avrora India Marine Systems Pvt. Ltd., a.k.a., the following two aliases: —Avrora (India) Marine Systems Pvt. Ltd.; and —Avrora (India) Marine Systems Private Limited. 407 Raheja Arcade, Plot No. 61, Sector 11, Central Business District Belapur, Navi Mumbai, Thane, Maharashtra, 400614, India; and 1201/1202 Great Eastern Summit `B' Plot No. 66, Sector 15, Central Business District Belapur, Navi Mumbai, Maharashtra, 400614, India. | For all items subject to the EAR (See §§ 734.9(g),³ 746.8(a)(3), and 744.11 of the EAR) | Policy of denial for all items subject to the EAR. See § 746.8(b) | 89 FR [INSERT FR PAGE NUMBER], 11/1/24.
| C & I Semiconductor Co., Ltd., a.k.a., the following one alias: —China India Semiconductor Co. Ltd. No. 53 40 Feet Road 3rd Cross, Ground Floor, Raghava Nagar, Bangalore, Karnataka, 560026, India. (See alternate address under China). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| FUTREVO, a.k.a., the following one alias: —Future R-Evolution. 31C Bollineni Hillside Road, Apt. Flat 202, Kanchipuram, Tamil Nadu, 600126, India; and 39/12 Haddows Road, Nungambakkam, Chennai, 600006, India; and 3 Dinshaw Vachha Road, Churchgate, Mumbai, 400020, India; and 21 Nehru Place, New Delhi, 110019, India. | For all items subject to the EAR (See §§ 734.9(g),³ 746.8(a)(3), and 744.21(b) of the EAR) | Policy of denial for all items subject to the EAR. See § 746.8(b) | 89 FR [INSERT FR PAGE NUMBER], 11/1/24.
| * * * * * *
| Innovio Ventures, 944 Block C Sushant Lok Phase 1, Gurugram, Haryana, 122001, India; and Basai Road, Shop No-141, Gurgaon, Haryana, 122001, India. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| Si2 Microsystems Private Limited, 84, Deep Towers, EPIP Industrial Area, Whitefield, Bangalore, Karnataka, 560066, India; and #52/A, 1st Cross, 3rd Main KIADB Industrial Area, Hoskote, Bangalore, Karnataka, 562114, India; and 3796, 7th Main, Hal II Stage, Bangalore, Karnataka, 560008, India; and 493/3 Bramhalingeshwara Complex, Airport Road, Bangalore, Karnataka, 560008, India; and 177/2 Bannerghatta Road, Begur Hobli Bilekahalli Industrial Area, Bangalore, Karnataka, 560076, India. | For all items subject to the EAR. (See §§ 734.9(g),³ 746.8(a)(3), and 744.11 of the EAR) | Policy of denial for all items subject to the EAR. See § 746.8(b) | 88 FR 80957, 11/21/23. 89 FR [INSERT FR PAGE NUMBER], 11/1/24.
| * * * * * *
| Theorax Dynamics Private Limited, a.k.a., the following three aliases: —Theorax Dynamics Pvt Ltd; —Theorax Dynamics; and —Theorax. No. 93, 2nd Floor, Yelenahalli Main Road, Akshayanagar Begur Post, Bangalore, Karnataka, 560008, India; and 2nd Floor, 147 5th Main Road, HSR Layout, Bangalore, Karnataka, 560102, India; and 3rd Floor, Pixel Park A, Hosur Road, Electronic City, Bangalore, Karnataka, 560100, India. | For all items subject to the EAR (See §§ 734.9(g),³ 746.8(a)(3), and 744.21(b) of the EAR) | Policy of denial for all items subject to the EAR. See § 746.8(b) | 89 FR [INSERT FR PAGE NUMBER], 11/1/24.
| * * * * * *
MALAYSIA | * * * * * *
| Reka Grup Danismanlik ve Tic Ltd Sti, a.k.a., the following one alias: —Reka Global. 16 Persiaran Setia Dagang, Setia Alam, Seksyen U13, Alam Nusantara, 40170 Shah Alam, Selangor, Malaysia. (See alternate address under Turkey.) | For all items subject to the EAR. (See §§ 734.9(g),³ 746.8(a)(3), and 744.11 of the EAR) | Policy of denial for all items subject to the EAR. See § 746.8(b) | 89 FR [INSERT FR PAGE NUMBER], 11/1/24.
| * * * * * *
| Supra Tech Sdn Bhd, 33-3, IB Tower, Persiaran KLCC, Kuala Lumpur, 50450, Malaysia. | For all items subject to the EAR. (See §§ 734.9(g),³ 746.8(a)(3), and 744.11 of the EAR) | Policy of denial for all items subject to the EAR . See § 746.8(b) | 89 FR [INSERT FR PAGE NUMBER], 11/1/24.
* * * * * * *
RUSSIA | * * * * * *
| Bespilotnye Sistemy LLC, a.k.a., the following three aliases: —OOO Bespilotnye Sistemy; —LLC Unmanned Systems; and —Unmanned Systems Group of Companies. 24 10 Let Oktyabrya Street, Apartment 62, Izhevsk, Republic of Udmurtskaya, 426011, Russia. | For all items subject to the EAR. (See §§ 734.9(g),³ 746.8(a)(3), and 744.11 of the EAR) | Policy of denial for all items subject to the EAR. See § 746.8(b) | 89 FR [INSERT FR PAGE NUMBER], 11/1/24.
| * * * * * *
| Federal State Budgetary Institute A.V. Zhirmunskiy National Scientific Research Center of Marine Biology, Far East Branch, Russian Academy of Sciences, a.k.a., the following six aliases: —Federalnoe Gosudarstvennoe Byudzhetnoe Uchrezhdenie Nauki Natsionalny Nauchny Tsentr Morskoi Biologii Im. A.V. Zhirmunskogo Dalnevostochnogo Otdeleniya Rossiskoi Akademii Nauk; —A.V. Zhirmunsky Institute of Marine Biology of the Far Eastern Branch of the Russian Academy of Sciences; —A.V. Shirmunsky National Scientific Center of Marine Biology; —FBU NNTsMB DVO RAN; —NSCMB FEB RAS; and —NNTsMB DVO RAN. 17 Palchevskogo Street, Vladivostok, Primorsky Region, 690041, Russia; and 1 Chugunova Street, Vityaz Settlement, Khasanski Region, Primorsky Region, 692707, Russia; and 25 Akademika Kasyanova Street, Russian Island, Vladivostok, Primorsky Region, 690992, Russia; and Building 3, Nakhodka, Primorsky Region, 692952, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 11/1/24.
| Federal State Budgetary Institution of Science Federal Research Center Pushchino Scientific Center for Biology, Russian Academy of Sciences, a.k.a., the following four aliases: —Federal Research Center Pushchino Scientific Center for Biological Research of the Russian Academy of Sciences; —FRC PSCBI RAS; —FITS PNTSBI RAN, FGBU; and —FITS PNTSBI RAN. 3 Nauki Avenue, Pushchino, Moscow Region, 142290, Russia; and 5 Nauki Avenue, Pushchino, Moscow Region, 142290, Russia; and 3 Institutskaya Street, Pushchino, Moscow Region, 142290, Russia; and 7 Institutskaya Street, Pushchino, Moscow Region, 142290, Russia; and 2 Institutskaya Street, Pushchino, Moscow Region, 142290, Russia; and 2 Institutskaya Street, Building 2, Pushchino, Moscow Region, 142290, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 11/1/24.
| Federal State Budgetary Institution of Science Institute of Bioorganic Chemistry named after Academicians M.M. Shemyakin and Yu.A. Ovchinnikov, Russian Academy of Sciences, a.k.a., the following six aliases: —Federalnoe Gosudarstvennoe Byudzhetnoe Uchrezhdenie Nauki Institut Bioorganicheskoi Khimii Im. Akademikov M.M. Shemyakina I Yu.A. Ovchinnikova Rossiskoi Akademii Nauk; —Shemyakin-Ovchinnikov Institute of Bioorganic Chemistry; —IBCh RAN; —IBCh RAS; —IBKh RAN; and —IBKh RAS. 16/10 Miklukho-Maklaya Street, Moscow, 117997, Russia; and 6 Nauki Avenue, Pushchino, Moscow Region, 142290, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 11/1/24.
| Federal State Budgetary Institution of Science Institute of Molecular and Cell Biology, Siberian Branch of the Russian Academy of Sciences, a.k.a., the following six aliases: —Federalnoe Gosudarstvennoe Byudzhetnoe Uchrezhdenie Nauki Institut Molekulyarnoi I Kletochnoi Biologii Sibirskogo Otdeleniya Rossiskoi Akademii Nauk; —Institute of Cell Biophysics of the Russian Academy of Sciences; —Institute of Cell Biophysics; —Institute of Molecular and Cellular Biology SB RAS; —IMCB SB RAS; and —IMCB SO RAN. 8/2 Akademika Lavrenteva Avenue, Novosibirsk, Novosibirsk Region, 630090, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 11/1/24.
| * * * * * *
| Federal State Unitary Enterprise Scientific Center Signal, a.k.a., the following six aliases: —Federalnoe Gosudarstvennoe Unitarnoe Predpriyatie “Nauchny Tsentr “Signal”. —FSUE Scientific Center Signal; —FGUP NTs Signal; —NTs Signal; —Scientific Center Signal; and —SC Signal. 8 Bolshaya Olenya Street, Moscow, 107014, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 11/1/24.
| * * * * * *
| Fincor LLC, a.k.a., the following two aliases: —OOO Fincor; and —SMU-5 OOO. 24 10 Let Oktyabrya Street, Apartment 62, Izhevsk, Republic of Udmurtskaya, 426011, Russia. | For all items subject to the EAR. (See §§ 734.9(g),³ 746.8(a)(3), and 744.11 of the EAR) | Policy of denial for all items subject to the EAR. See § 746.8(b) | 89 FR [INSERT FR PAGE NUMBER], 11/1/24.
| Finko LLC, a.k.a., the following one alias: —OOO Finko. 24 10 Let Oktyabrya Street, Apartment 62, Izhevsk, Republic of Udmurtskaya, 426011, Russia. | For all items subject to the EAR. (See §§ 734.9(g),³ 746.8(a)(3), and 744.11 of the EAR) | Policy of denial for all items subject to the EAR. See § 746.8(b) | 89 FR [INSERT FR PAGE NUMBER], 11/1/24.
| * * * * * *
| JSC Zavod Kopir, a.k.a., the following three aliases: —Gostevoi dom “U Ostapa” Aktsionernogo Obshchestva “Zavod “Kopir” (dlya 1-KSR); —Factory “Copier” JSC; —AO Zavod Kopir; and —Zavod Kopir OAO. 10 Gagarin Str., Kozmodemyansk, Republic of Mari El, 425350, Russia; and d. 62 ul. Nekrasova, Kozmodemyansk, Mari El, 425350, Russia. | For all items subject to the EAR. (See §§ 734.9(g),³ 746.8(a)(3), and 744.11 of the EAR) | Policy of denial for all items subject to the EAR. See § 746.8(b) | 89 FR [INSERT FR PAGE NUMBER], 11/1/24.
| * * * * * *
| LLC A-K-S, a.k.a., the following two aliases: —Obshchestvos Ogranichennoi Otvetstvennostyu “A-K-S”; and —OOO “A-K-S” Revolution Highway, Building 69, Saint Petersburg, 195279, Russia. | For all items subject to the EAR (See §§ 734.9(g),³ 746.8(a)(3), and 744.11 of the EAR) | Policy of denial. See § 746.8 of the EAR | 89 FR [INSERT FR PAGE NUMBER], 11/1/24.
| * * * * * *
| OOO IAZ, 2 Ul Ordzhonikidze, Liter Yu Tsokolny Etazh 10 Kab. 11, , Gorod Izhevsk, Udmurtskaya Resp, 426063, Russia. | For all items subject to the EAR. (See §§ 734.9(g),³ 746.8(a)(3), and 744.11 of the EAR) | Policy of denial for all items subject to the EAR. See § 746.8(b) | 89 FR [INSERT FR PAGE NUMBER], 11/1/24.
| * * * * * *
| Pavlin Techno LLC, a.k.a., the following two aliases: —OOO Pavlin Tekhno; and —Pawlin Technologies. 13 Ul. Lenina, Apartment. 11, Dubna, Moskovskaya Obl., 141983, Russia; and 100 Dmitrovskoe Highway Moscow, Office 2307, 3rd floor building 2 Nord Khaus, Moscow, 127591, Russia. | For all items subject to the EAR. (See §§ 734.9(g),³ 746.8(a)(3), and 744.11 of the EAR) | Policy of denial for all items subject to the EAR. See § 746.8(b) | 89 FR [INSERT FR PAGE NUMBER], 11/1/24.
| * * * * * *
| Superkam LLC, a.k.a., the following one alias: —OOO Superkam. 24 10 Let Oktyabrya Street, Apartment 62, Izhevsk, Republic of Udmurtskaya, 426011, Russia. | For all items subject to the EAR. (See §§ 734.9(g),³ 746.8(a)(3), and 744.11 of the EAR) | Policy of denial for all items subject to the EAR. See § 746.8(b) | 89 FR [INSERT FR PAGE NUMBER], 11/1/24.
* * * * * * *
SINGAPORE | TechCamel Pte. Ltd., a.k.a., the following two aliases: —TechCamel; and —TECHCAMELTECHCAMEL PTE.LTD. 18 Sin Ming Lane, #07-40 Midview City, 573960, Singapore; and 320 Serangoon Road, #13-05 Centrium Square, 218108, Singapore; and 320 Serangoon Road, #21, 218108, Singapore. | For all items subject to the EAR (See § 734.9(g),³ 746.8(a)(3), and 744.11 of the EAR) | Policy of denial for all items subject to the EAR. See § 746.8(b) | 89 FR [INSERT FR PAGE NUMBER], 11/1/24.
| * * * * * *
TURKEY | * * * * * *
| Atlas Trade Dis Ticaret Limited, a.k.a., the following one alias: —Atlas Trade Dis Tic Ltd Sti. No: 12 Mecidiyekoy Road., Trump Tower Interior Door No: 221, Kustepe Mah., Sisli, Istanbul, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| Aviatech Havacilik Sanayi Ve Yedek Parcalari Ltd Sti, No: 13 K: 7 D: 192 Mustafa Akyol Sok., MVK Work Square, A2 Blok, Yenişehir Mah. Pendik, Istanbul, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| B2M Lojistik Ve Dis Ticaret Anonim Sirketi, Giyim Sanatkarları 3A Blok Sok. 3.Ada A Blok, Kat:5 No:506, İOSB Mah., Başakşehir, Istanbul, Turkey; and Giyim Sanatkarları 3A Blok Sok. 3.Ada A Blok, Kat:5 No:508, İOSB Mah., Başakşehir, Istanbul, Turkey; and No:9/2Madalya Sok., Haraççı Mah., Arnavutköy, Istanbul, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| DML Group Makine Pazarlama Ic Ve Dis Ticaret Ltd Sirketi, No: 52 Hasat Sk., Kamara İç Kapı No: 1, Merkez Mah., Şişli, Istanbul, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER, 11/1/24 REGISTER].
| * * * * * *
| Ix Medikal Buro Malzemeleri Ticaret Limited Sirketi, a.k.a., the following six aliases: —Ix Elektronik Ic Ve Dis Ticaret Ltd Sirketi; —Ix Elektronik Ic Ve Dis Ticaret Limited Serketi; —Ix Elektronik Ic Ve Dis Ticaret Limited Sirkety; —Ix Electronics Domestic and Foreign Trade Limited; —Ix Electronics Domestic and Foreign Trade Limited Company Istanbul Industry and Trade Free Zone Branch; and —Ix Elektronik İç Ve Diş Ticaret Limited Şirketi. Mah 225, Sokak-1 Summ, Alanya/Antalya, 07460, Turkey; and No:8, D, Sok Summer Park Sitesi, Oba Mahallesi 225, Alanya/Antalya, 07450, Turkey; and No:8D-23, D Block, Summer Park Sitesi, Oba Mahallesi 225, Alanya/Antalya, 07450, Turkey; and No:8 D BL, Summer Park Sitesi, Oba Mahallesi 225, Alanya/Antalya, 07450, Turkey; and Block No:4, Inside Door No: z01, PiloT Deri BinasI, Kosar Cad, Aydinli Sb Mah, Tuzla/Istanbul, 34953, Turkey. | For all items subject to the EAR. (See §§ 734.9(g),³ 746.8(a)(3), and 744.11 of the EAR) | Policy of denial for all items subject to the EAR. See § 746.8(b). | 89 FR [INSERT FR PAGE NUMBER], 11/1/24.
| * * * * * *
| LL Chip Elektrik Elektronic Paz, a.k.a., the following three aliases: —LL Chip Elektrik Elektronik Pazarlama Ic ve Dis Ticaret Limited Sirketi; —LL Chip Ltd.; and —LL Chip Electric Electronic Marketing Domestic and Foreign Trade Limited Company. Merkez Mah., Hasat Sokak Kamara, No: 52, Şişli, Istanbul, 34360, Turkey. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| Madena Otomotiv Insaat Elektronik Tic Ltd, 67.Sk. Konut No: 4 İç Kapi No: 13, Yakuplu Mah., Beylikdüzü, Istanbul, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| Mia Antalya Insaat Sanayi Ve Ticaret A.S., a.k.a., the following two aliases: —Mia Ticaret A.S.; and —Antalya Mia. No:109/4, Eski Lara Cad. Funda Apartmani, Şirinyali Mah., Muratpaşa, Antalya, Turkey; and 4550. Sk. No:04, Safak, 07220, Kepez, Antalya, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| Panorama Invest Dis Ticaret As, a.k.a., the following three aliases: —Panorama Invest Dis Ticaret Anonim Sirketi; —Panorama İnvest Diş Ticaret Anonim Şirketi; and —Panorama Invest Foreign Trade Company. EGS Business Park B212-8, DTM, Bakhiroy/Istanbul, 34149, Turkey; and EGS Business Park B2 8, Dunya Ticaret Merkezi, Yesilkoy Mahallesi, Bakirkoy/Istanbul, 34149, Turkey; and EGS Business Park B2 8, World Trade Center, Yeşilköy Neighborhood, Bakirkoy/Istanbul, 34149, Turkey. | For all items subject to the EAR. (See §§ 734.9(g),³ 746.8(a)(3), and 744.11 of the EAR) | Policy of denial for all items subject to the EAR. See § 746.8(b) | 89 FR [INSERT FR PAGE NUMBER], 11/1/24.
| * * * * * *
| Reka Grup Danismanlik ve Tic Ltd Sti, a.k.a., the following one alias: —Reka Global. 274-1 Sokak, No:1-16, Bahcelievler Mahallesi, Golbasi, Ankara 06065, Turkey; and Üniversitesi Caddesi, Paragon Tower, Çankaya, Ankara 06510, Turkey, and Yalı, Mithatpaşa Cd. No:409, 35310 Güzelbahçe/İzmir, Turkey; and Ahmet Mithat Efendi Sk. 18/A, Güzeltepe, 06690 Çankaya/Ankara, Turkey; and 274. Sk. No:12/F, Bahçelievler, 06830 Gölbaşı/Ankara, Turkey. (See alternate address under Malaysia.) | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| RLY Ic Ve Dis Ticaret Limited Sirketi, a.k.a., the following two aliases: —RLY Sey. Uru. Tic. And San. Ltd. Sti.; and —RLY Project. No:3, Kap, Barbaros Ihlamur Bulv. Agaoglu My Newwork, Atasehir, Istanbul, 34746, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| Scitech Tasimacilik Ticaret Limited, a.k.a., the following two aliases: —Scitech Tasimacililk Ticaret, Limited Sirketi; and —Scitech Transport Trade Limited Company. 235 SK Kamac, Apt No. 6, Ic Kapi No. 3, Yildiz Mah., Muratpasa, Antalya, 11111, Turkey; and 37 Sokak, Cengizhan Apt Block No: 6/102, Kisla Mah., Muratpasa, Antalya, 07040, Turkey. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
| TDT Havacilik Bakim Ve Ticaret, a.k.a., the following two aliases: —TD Team; and —TDT Havacilik Bakim Ve Ticaret Anonim Şirketi. 39/1 Nolu Sokak No:35, İç Kapı No:1, Altınova Sinan Mah. Antalya, Kepez 07170, Turkey; and Rauf Denktaş Cad. 2209 Sok., No:24/101, Güzeloba Mah. Antalya, Muratpaşa 07230, Turkey; and Antalya Airport—Apron, Antalya, Antalya 07025, Turkey; and Dalaman Airport Apron, Dalaman, Muğla 48770, Turkey; and Bodrum Milas Airport Apron, Milas, Muğla 48200, Turkey; and Istanbul Airport Apron, IGA, Istanbul 34283, Turkey; and Alanya Gazipasa Airport Apron, Gazipasa , Antalya 07900, Turkey; and Izmir Adnan Menderes Airport Apron, İzmir, 35410, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
| Ultimate Havacilik Hizmetleri Limited Sirketi, a.k.a., the following one alias: —Ultimate Aviation Services. No:4/9, Konyaaltı Caddesi, Türker Apartmanı, Deniz Mahallesi, Muratpaşa, Antalya, Turkey; and Evliya Celebi Caddesi Remel Plaza, Etiler Mahallesi, Muratpasa, Antalya, 07010, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| Union Trade Turkey Makina Ithalat Ve Ihracat Limited Sirketi, a.k.a., the following three aliases: —Union Trade Turkey Mak.Ith.Ve Ihr. Ltd; —Union Trade Turkey Machinery Import and Export Limited Company; and —Union Trade Turkey Machinery Import and Export Ltd. Block No: 203, Abide-i Hurriyet Street, Aykac Plaza, Inside Door No: 17, Central Mah, Sisli/Istanbul, 34381, Turkey. | For all items subject to the EAR. (See §§ 734.9(g),³ 746.8(a)(3), and 744.11 of the EAR) | Policy of denial for all items subject to the EAR. See § 746.8(b) | 89 FR [INSERT FR PAGE NUMBER], 11/1/24.
| * * * * * *
| Yildiz Cip Teknoloji Elektronik Elektrik Bilg. Malz. Tic. San. Ltd. Sti, a.k.a., the following two aliases: —Yildiz Chip; and —Yildiz Chip Technology Electronic Electric Computer Materials Trade Industry Limited. Blok No:118 İç Kapi No:401, Şehit Binbaşi Cengiz Toytunç Cad. Antelsan İş Merkezi Antelsan İş Merkezi, Kişla Mah. Muratpaşa, Antalya, Turkey. | For all items subject to the EAR. (See §§ 734.9(g),³ 746.8(a)(3), and 744.11 of the EAR) | Policy of denial for all items subject to the EAR apart from food and medicine designated as EAR99, which will be reviewed on a case-by-case basis. See §§ 746.8(b) and 744.21(e) | 89 FR [INSERT FR PAGE NUMBER], 11/1/24.
| * * * * * *
UNITED ARAB EMIRATES | * * * * * *
| Hulm al Sahra Elect Devices TR, a.k.a., the following one alias: —Hulm Al Sahra. P.O. Box 62105, Al Dhaid, New Industrial Area Sharjah, Sharjah, United Arab Emirates; and Building 38, Industrial Area No.1, Al Dhaid City, Sharjah, United Arab Emirates; and Al Khan 2 Street 1, Al Dhaid City, Sharjah, 235545, United Arab Emirates. | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
UNITED KINGDOM | * * * * * *
| China Shengshi International Trade Ltd., a.k.a., the following one alias: —Hong Kong Development Group. P.O. Box 957, Offshore Incorporations Center, Road Town, Tortola, British Virgin Islands. (See alternate address under China). | For all items subject to the EAR. (See §§ 734.9(g),³ 746.8(a)(3), and 744.11 of the EAR) | Policy of denial for all items subject to the EAR. See § 746.8(b) | 88 FR 70353, 10/11/23. 89 FR [INSERT FR PAGE NUMBER], 11/1/24.
| * * * * * *
³ For this entity, “items subject to the EAR” includes foreign-produced items that are subject to the EAR under § 734.9(g) of the EAR. See §§ 744.11, 744.21, and 746.8 of the EAR for related license requirements, license review policy, and restrictions on license exceptions.

* * * * *

Matthew S. Borman,
Principal Deputy Assistant Secretary for Strategic Trade and Technology Security.

[FR Doc. 2024-25411 Filed 10-30-24; 8:45 am]

BILLING CODE 3510-JT-P